DEPARTMENT OF ENERGY

Federal Energy Regulatory Commission

[Project No. 14553-000]

Mid-Atlantic Hydro, LLC; Notice of Competing Preliminary Permit Application Accepted for Filing and Soliciting Comments and Motions To Intervene

On August 30, 2013, Mid-Atlantic Hydro, LLC (MAH) filed an application for a preliminary permit, pursuant to section 4(f) of the Federal Power Act (FPA), proposing to study the feasibility of the Dashields Lock and Dam Hydroelectric Project (Dashields Project or project) to be located at the U.S. Army Corps of Engineers' Dashields Lock and Dam on the Ohio River in Allegheny County, Pennsylvania. The sole purpose of a preliminary permit, if issued, is to grant the permit holder priority to file a license application during the permit term. A preliminary permit does not authorize the permit holder to perform any land-disturbing activities or otherwise enter upon lands or waters owned by others without the owners' express permission.

MAH's permit application is filed in competition with FFP Project 133, LLC's proposed Dashields Lock and Dam Hydroelectric Project No. 14524-000, which was publicly noticed July 3, 2013. The deadline for filing competing applications was September 1, 2013. MAH's competing permit application is timely filed.

The proposed project would consist of the following: (1) A new powerhouse located adjacent to the right descending bank immediately downstream of a 350-linear-foot section of the existing dam; (2) fourteen Very Low Head (VLH) 4000 turbine units with a total capacity of 7 megawatts; (3) a permanent submersible magnet generator housed in each turbine hub; and (4) a new 69-kilovolt transmission line approximately 2.1 miles long. The estimated annual generation of the Dashields Project would be 41.4 gigawatt-hours.

Applicant Contact: Kristina Johnson, Mid-Atlantic Hydro, LLC, 5425 Wisconsin Avenue, Suite 600, Chevy Chase, MD 20815; phone: (301) 718-4432.

FERC Contact: Woohee Choi; phone: (202) 502-6336.

Deadline for filing comments and motions to intervene: 60 days from the issuance of this notice.

The Commission strongly encourages electronic filing. Please file comments and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14553-000.

More information about this project, including a copy of the application, can be viewed or printed on the “eLibrary” link of the Commission's Web site at http://www.ferc.gov/docs-filing/elibrary.asp. Enter the docket number (P-14553) in the docket number field to access the document. For assistance, contact FERC Online Support.

Dated: September 12, 2013.
Kimberly D. Bose,
Secretary.

[FR Doc. 2013-22697 Filed 9-17-13; 8:45 am]

BILLING CODE 6717-01-P